DEPARTMENT OF THE INTERIOR

National Park Service

[NPS-WASO-NRNHL-20215; PPWOCRADI0, PCU00RP14.R50000]

National Register of Historic Places; Notification of Pending Nominations and Related Actions

AGENCY: National Park Service, Interior.

ACTION: Notice.

SUMMARY: The National Park Service is soliciting comments on the significance of properties nominated before January 23, 2016, for listing or related actions in the National Register of Historic Places.

DATES: Comments should be submitted by March 8, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before January 23, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

San Diego County

Fort Rosecrans National Cemetery, (Inter-World War National Cemeteries, 1934-1939 MPS) Cabrillo Memorial Dr., San Diego, 16000054

San Mateo County

Golden Gate National Cemetery, (Inter-World War National Cemeteries, 1934-1939 MPS) 1300 Sneath Ln., San Bruno, 16000058

ILLINOIS

Cook County

Arcade Building, 1 Riverside Rd., Riverside, 16000055

Kane County

Ford, Sam and Ruth Van Sickle, House, 404 S. Edgelawn Dr., Aurora, 16000056

IOWA

Black Hawk County

Cedar Falls Post Office, 217 Washington St., Cedar Falls, 16000057

MARYLAND

Baltimore Independent city

Baltimore National Cemetery, (Inter-World War National Cemeteries, 1934-1939 MPS) 5501 Frederick Ave., Baltimore (Independent City), 16000059

MINNESOTA

Hennepin County

Fort Snelling National Cemetery, (Inter-World War National Cemeteries, 1934-1939 MPS) 7601 34th Ave., S., Minneapolis, 16000060

NEW YORK

Monroe County

Brockport Cemetery, 56-98 High St., Brockport, 16000061

New York County

Rustin, Bayard, Residence, 340 W. 28th St., New York, 16000062

Otsego County

Ferris, Warren, House, 7637 NY 80, Springfield Center, 16000063

Tioga County

Glenwood Cemetery and Mausoleum, 113 Moore St., Waverly, 16000064

TEXAS

Bexar County

Fort Sam Houston National Cemetery, (Inter-World War National Cemeteries, 1934-1939 MPS) 1520 Harry Wurzbach Rd., San Antonio, 16000065

El Paso County

Fort Bliss National Cemetery, (Inter-World War National Cemeteries, 1934-1939 MPS) 5200 Fred Wilson Blvd., Fort Bliss, 16000066

WISCONSIN

Walworth County

Delavan Downtown Commercial Historic District, Generally bounded by the 200, 300 & 400 blks. of E. Walworth Ave., Delavan, 16000067

Delavan Water Tower Park Historic District, Generally bounded by 101-137 Park Pl. & 104-130 E. Walworth Ave., Delavan, 16000068

A request to remove has been received for the following resource:

OREGON

Lane County

Eugene Civic Stadium, 2077 Willamette St., Eugene, 08000183

Authority: 60.13 of 36 CFR part 60

Dated: January 29, 2016.
Elaine Jackson-Retondo,
Acting Chief, National Register of Historic Places/National Historic Landmarks Program.

[FR Doc. 2016-03531 Filed 2-19-16; 8:45 am]

BILLING CODE 4312-51-P